ENVIRONMENTAL PROTECTION AGENCY

40 CFR Part 80

[EPA-HQ-OAR-2005-0161; FRL-8906-9]

RIN 2060-A081

Public Hearing for the RFS2 Rule

AGENCY: Environmental Protection Agency (EPA).

ACTION: Announcement of public hearing.

SUMMARY: The EPA is announcing a public hearing to be held for the proposed rule “Regulation of Fuels and Fuel Additives: Changes to Renewable Fuel Standard Program” (the proposed rule is hereinafter referred to as “RFS2”), which will be published separately in the Federal Register. The hearing will be held in Washington, DC on June 9, 2009.

In a separate notice of proposed rulemaking, EPA is proposing a regulation to implement changes to the Renewable Fuel Standard program as mandated by the Clean Air Act (as amended by Sections 201, 202, and 210 of the Energy Independence and Security Act of 2007). The revised statutory requirements specify the volumes of cellulosic biofuel, biomass-based diesel, advanced biofuel, and total renewable fuel that must be used in transportation fuel each year, with the volumes increasing over time. The rule proposes regulations designed to ensure that refiners, blenders, and importers of gasoline and diesel would use enough renewable fuel each year so that the four volume requirements of the Energy Independence and Security Act would be met with renewable fuels that also meet the required lifecycle greenhouse gas emissions performance standards. The RFS2 proposed rule describes the standards that would apply to these parties and the renewable fuels that would qualify for compliance, and the proposed regulations make a number of changes to the current Renewable Fuel Standard program while retaining many elements of the compliance and trading system already in place. The signed notice of proposed rulemaking was posted on the EPA Web site prior to publication in the Federal Register, and contained the same public hearing date presented in this announcement.

DATES: The public hearing will be held on June 9, 2009 in Washington, DC. To register to testify at the hearing, notify the contact person listed under FOR FURTHER INFORMATION CONTACT by June 1, 2009. Information regarding time of the hearing, as well as the Lifecycle Greenhouse Gas (GHG) workshop, is also listed below in SUPPLEMENTARY INFORMATION.

ADDRESSES: The hearing will be held at the following location: Dupont Hotel, 1500 New Hampshire Avenue, NW., Washington, DC 20036. Written comments on the proposed rule may also be submitted to EPA electronically, by mail, by facsimile, or through hand delivery/courier. Please refer to the notice of proposed rulemaking for the addresses and detailed instructions for submitting written comments.

When the proposed rule is published in the Federal Register, a complete set of documents related to the proposal will be available for public inspection at the EPA Docket Center, located at 1301 Constitution Avenue, NW., Room 3334, Washington, DC between 8:30 a.m. and 4:30 p.m., Monday through Friday, excluding legal holidays. A reasonable fee may be charged for copying. Documents are also available through the electronic docket system at http://www.regulations.gov. The EPA Web site for the rulemaking, which includes information about the public hearings and a copy of the signed proposal (which is essentially the same as the proposal that will be published) can be found at: http://www.epa.gov/otaq/renewablefuels/index.htm.

FOR FURTHER INFORMATION CONTACT: Julia MacAllister, Office of Transportation and Air Quality, Assessment and Standards Division, Environmental Protection Agency, 2000 Traverwood Drive, Ann Arbor, MI 48105; telephone number: (734) 214-4131; fax number: (734) 214-4816; e-mail address: macallister.julia@epa.gov, or Assessment and Standards Division Hotline; telephone number (734) 214-4636; E-mail address: asdinfo@epa.gov.

SUPPLEMENTARY INFORMATION: The proposal for which EPA is holding the public hearing will be published separately in the Federal Register. A copy of the signed notice of proposed rulemaking, which is essentially the same as the proposal that will be published in the Federal Register, has been available since May 5, 2009, on the following Web site: http://www.epa.gov/otaq/renewablefuels/index.htm. The notice on the Web site contains the same public hearing date, addresses, and registration information presented in this announcement of public hearing.

Public Hearing: The public hearing will provide interested parties the opportunity to present data, views, or arguments concerning the proposed rule. The EPA may ask clarifying questions during the oral presentations but will not respond to the presentations at that time. Written statements and supporting information submitted during the comment period will be considered with the same weight as any oral comments and supporting information presented at the public hearing. Written comments must be received by the last day of the comment period, as specified in the proposal of the RFS2 rule.

The public hearing will be held on June 9 in Washington, DC and will begin at 10 a.m. and end at 5 p.m., local time. To testify at the public hearing, please notify the contact person listed under FOR FURTHER INFORMATION CONTACT by June 1, 2009.

Verbatim transcripts of the hearings and written statements will be included in the rulemaking docket.

Workshop: We will also hold a workshop on June 10-11, 2009 at the Dupont Hotel in Washington, DC to present details of our lifecycle GHG analysis. During this workshop, we intend to go through the lifecycle GHG analysis included in this proposal. The intent of this workshop is to help ensure a full understanding of our lifecycle analysis, the major issues identified and the options discussed. We expect that this workshop will help ensure that we receive submission of the most thoughtful and useful comments to this proposal and that the best methodology and assumptions are used for calculating GHG emissions impacts of fuels for the final rule. While this workshop will be held during the comment period, it is not intended to replace either the formal public hearing or the need to submit comments to the docket.

How Can I Get Copies of This Document, the Proposed Rule, and Other Related Information?

The EPA has established a docket for this action under Docket ID No. EPA-HQ-OAR-2005-0161. The EPA has also developed a Web site for the proposed RFS2 rule, including the notice of proposed rulemaking, at the address given above. Please refer to the notice of proposed rulemaking for detailed information on accessing information related to the proposal.

Dated: May 13, 2009.
Margo T. Oge,
Director, Office of Transportation and Air Quality.

[FR Doc. E9-11644 Filed 5-19-09; 8:45 am]

BILLING CODE 6560-50-P